DEPARTMENT OF DEFENSE

Office of the Secretary

[Transmittal No. 24-27]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-27 and Policy Justification.

Dated: January 16, 2025.
Stephanie J. Bost,
Alternate OSD Federal Register Liaison Officer, Department of Defense.

BILLING CODE 6001-FR-P

BILLING CODE 6001-FR-C

Transmittal No. 24-27

Notice of Proposed Issuance of Letter of Offer Pursuant to Section 36(b)(1) of the Arms Export Control Act, as amended

(i) Prospective Purchaser: Republic of Korea

(ii) Total Estimated Value:

Major Defense Equipment * | $ 6 million
Other | $344 million
TOTAL | $350 million

(iii) Description and Quantity or Quantities of Articles or Services under Consideration for Purchase:

Major Defense Equipment (MDE):

Six (6) T-700 GE 401C or 401D Engines

Non-MDE:

Also included are spare engine containers; spare and repair parts; ferry support; publications and technical documentation; personnel training and training equipment; United States (U.S.) Government and contractor engineering, technical, and logistics support services; and other related elements of logistics and program support.

(iv) Military Department: Navy (KS-P-GST)

(v) Prior Related Cases, if any: KS-P-SEL

(vi) Sales Commission, Fee, etc., Paid, Offered, or Agreed to be Paid: None known

(vii) Sensitivity of Technology Contained in the Defense Article or Defense Services Proposed to be Sold: None

(viii) Date Report Delivered to Congress: March 8, 2024

* as defined in Section 47(6) of the Arms Export Control Act.

POLICY JUSTIFICATION

Republic of Korea—Engines and Sustainment for MH-60R Multi-Mission Helicopters

The Republic of Korea (ROK) has requested to buy six (6) T-700 GE 401C or 401D engines. Also included are spare engine containers; spare and repair parts; ferry support; publications and technical documentation; personnel training and training equipment; U.S. Government and contractor engineering, technical, and logistics support services; and other related elements of logistics and program support. The estimated total cost is $350 million.

This proposed sale will support the foreign policy goals and national security objectives of the U.S. by improving the security of a major ally that is a force for political stability and economic progress in the Indo-Pacific region.

The proposed sale will improve the ROK's capability to perform anti-surface and anti-submarine warfare missions along with the capability to perform secondary missions including vertical replenishment, search and rescue, and communications relay. The ROK will use the enhanced capability as a deterrent to regional threats and to strengthen its homeland defense. The ROK will have no difficulty absorbing this equipment into its armed forces.

The proposed sale of this equipment and support will not alter the basic military balance in the region.

The principal contractor will be the General Electric Company, located in Lynn, MA. There are no known offset agreements proposed in connection with this potential sale.

Implementation of the proposed sale will require eight U.S. Government and four contractor personnel to visit the ROK on a temporary basis for program technical oversight and support requirements, including program and technical reviews, as well as to provide training and maintenance support in country.

There will be no adverse impact on U.S. defense readiness as a result of this proposed sale.

[FR Doc. 2025-01490 Filed 1-21-25; 8:45 am]

BILLING CODE 6001-FR-P